DEPARTMENT OF COMMERCE

Foreign-Trade Zones Board

[Order No. 2063]

Reorganization of Foreign-Trade Zone 74; (Expansion of Service Area) Under Alternative Site Framework; Baltimore, Maryland

Pursuant to its authority under the Foreign-Trade Zones Act of June 18, 1934, as amended (19 U.S.C. 81a-81u), the Foreign-Trade Zones Board (the Board) adopts the following Order:

Whereas, the Foreign-Trade Zones (FTZ) Act provides for “ . . . the establishment . . . of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board adopted the alternative site framework (ASF) (15 CFR Sec. 400.2(c)) as an option for the establishment or reorganization of zones;

Whereas, the Baltimore Development Corporation on behalf of the City of Baltimore, grantee of Foreign-Trade Zone 74, submitted an application to the Board (FTZ Docket B-21-2017, docketed April 5, 2017) for authority to expand the service area of the zone to include Howard and Queen Anne's Counties, Maryland, as described in the application, adjacent to the Baltimore Customs and Border Protection port of entry;

Whereas, notice inviting public comment was given in the Federal Register (82 FR 17186-17187, April 10, 2017) and the application has been processed pursuant to the FTZ Act and the Board's regulations; and,

Whereas, the Board adopts the findings and recommendations of the examiner's report, and finds that the requirements of the FTZ Act and the Board's regulations are satisfied;

Now, Therefore, the Board hereby orders:

The application to reorganize FTZ 74 to expand the service area under the ASF is approved, subject to the FTZ Act and the Board's regulations, including Section 400.13, and to the Board's standard 2,000-acre activation limit for the zone.

Dated: October 9, 2018.
Gary Taverman,
Deputy Assistant Secretary for Antidumping and Countervailing Duty Operations, performing the non-exclusive functions and duties of the Assistant Secretary for Enforcement and Compliance, Alternate Chairman, Foreign-Trade Zones Board.

[FR Doc. 2018-22368 Filed 10-12-18; 8:45 am]

BILLING CODE 3510-DS-P